DEPARTMENT OF HOMELAND SECURITY

Coast Guard

33 CFR Part 117

[Docket No. USCG-2016-0472]

Drawbridge Operation Regulation; Middle River, Between Bacon Island and Lower Jones Tract, California

AGENCY: Coast Guard, DHS.

ACTION: Notice of temporary deviation from drawbridge regulation.

SUMMARY: The Coast Guard has issued a temporary deviation from the operating schedule that governs the San Joaquin County (Bacon Island Road) highway bridge across Middle River, mile 8.6, at between Bacon Island and Lower Jones Tract, California. The deviation is necessary to allow the bridge owner to make emergency mechanical and electrical repairs. This deviation allows the bridge to be secured in the closed-to-navigation position during the deviation period.

DATES: This deviation is effective without actual notice from June 14, 2016 until 11:59 p.m. on July 1, 2016. For the purposes of enforcement, actual notice will be used from June 8, 2016, until June 14, 2016.

ADDRESSES: The docket for this deviation, [USCG-2016-0472], is available at http://www.regulations.gov. Type the docket number in the “SEARCH” box and click “SEARCH.” Click on Open Docket Folder on the line associated with this deviation.

FOR FURTHER INFORMATION CONTACT: If you have questions on this temporary deviation, call or email David H. Sulouff, Chief, Bridge Section, Eleventh Coast Guard District; telephone 510-437-3516, email David.H.Sulouff@uscg.mil.

SUPPLEMENTARY INFORMATION: San Joaquin County Department of Public Works has requested a temporary change to the operation of the San Joaquin County (Bacon Island Road) highway drawbridge, mile 8.6, over Middle River, between Bacon Island and Lower Jones Tract, California. The drawbridge navigation span provides approximately 8 feet vertical clearance above Mean High Water in the closed-to-navigation position. The draw operates as required by 33 CFR 117.171(a). Navigation on the waterway is commercial and recreational.

The drawspan operating machinery failed unexpectedly on May 28, 2016 and the drawspan will remain secured in the closed-to-navigation position until 11:59 p.m. on July 1, 2016, to allow the bridge owner to make emergency repairs. This temporary deviation has been coordinated with the waterway users. No objections to the proposed temporary deviation were raised.

Vessels able to pass through the bridge in the closed position may do so at anytime. The bridge will not be able to open for emergencies. Old River can be used as an alternate route for vessels unable to pass through the bridge in the closed position. The Coast Guard has also informed waterway users through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: June 8, 2016.
D.H. Sulouff,
District Bridge Chief, Eleventh Coast Guard District.

[FR Doc. 2016-13987 Filed 6-13-16; 8:45 am]

BILLING CODE 9110-04-P